SECURITIES AND EXCHANGE COMMISSION

Investment Technology, Inc., File No. 500-1; Order of Suspension of Trading

April 22, 2002.

It appears to the Securities and Exchange Commission that there is a lack of current and accurate information concerning the securities of Investment Technology Inc. (“Investment Technology”) because of questions regarding the accuracy of assertions by Investment Technology, and by others, in documents sent to and statements made to market makers of the stock of Investment Technology, other brokers and dealers, and to investors concerning, among other things: (1) the company's purported acquisitions of, and mergers with, various companies and businesses; (2) the status of the company's current financial condition and business operations; (3) the identity and background of the company's control persons; and (4) the company's profit growth and stock price appreciation.

The Commission is of the opinion that the public interest and the protection of investors require a suspension of trading in the securities of the above listed company.

Therefore, it is ordered, pursuant to Section 12(k) of the Securities Exchange Act of 1934, that trading in the above listed company is suspended for the period beginning at 9:30 a.m. EST, April 22, 2002 and terminating at 11:59 p.m. EST, on May 3, 2002.

By the Commission.
Margaret H. McFarland,
Deputy Secretary.

[FR Doc. 02-10140 Filed 4-22-02; 12:08 pm]

BILLING CODE 8010-01-P